NUCLEAR REGULATORY COMMISSION

[Docket No. 50-313]

Entergy Operations, Inc.; Notice of Issuance of Amendment to Renewed Facility Operating License No. DPR-51

The U.S. Nuclear Regulatory Commission (Commission) has issued Amendment No. 215 to Renewed Facility Operating License No. DPR-51 issued to Entergy Operations, Inc., (the licensee), which revised the Technical Specifications (TSs) for operation of Arkansas Nuclear One, Unit 1 (ANO-1), located in Pope County, Arkansas. The amendment is effective as of the date of issuance and shall be implemented within one year of the date of issuance.

The amendment converts the current TSs for ANO-1 to a set of improved TSs based on NUREG-1430, “Standard Technical Specifications, Babcock and Wilcox Plants.”

The application for the amendment complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on June 28, 2001 (66 FR 34486). No request for a hearing or petition for leave to intervene was filed following this notice.

The Commission has prepared an Environmental Assessment related to the action and has determined not to prepare an environmental impact statement. Based upon the environmental assessment, the Commission has concluded that the issuance of the amendment will not have a significant effect on the quality of the human environment (66 FR 46038 published on August 31, 2001).

For further details with respect to the action see (1) the application for amendment dated January 28, 2000, as supplemented by letters dated August 9 and September 28, 2000, and February 6, March 19, May 1, August 23, September 14, and September 19, 2001, (2) Amendment No. 215 to Renewed Facility Operating License No. DPR-51, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management System's (ADAMS) Public Electronic Reading Room on the internet at the NRC Web site, http://www.nrc.gov/NRC/ADAMS/index.html. Persons who do not have access to ADAMS or who encounter problems in accessing the documents located in ADAMS should contact the NRC Public Document Room Reference staff by telephone at 1-800-397-4209, 301-415-4737 or by email to pdr@nrc.gov.

Dated at Rockville, Maryland, this 30th day of October, 2001.
For the Nuclear Regulatory Commission.
William D. Reckley,
Project Manager, Section 1, Project Directorate IV, Division of Licensing Project Management, Office of Nuclear Reactor Regulation.

[FR Doc. 01-27861 Filed 11-5-01; 8:45 am]

BILLING CODE 7590-01-P